DEPARTMENT OF ENERGY

Federal Energy Regulatory Commission

Combined Notice of Filings #1

Take notice that the Commission received the following electric corporate filings:

Docket Numbers: EC21-61-000.

Applicants: Energy Power Investment Company, LLC.

Description: Answer of Energy Power Investment Company, LLC and Request for Limited Comment Period.

Filed Date: 3/31/21.

Accession Number: 20210331-5338.

Comments Due: 5 p.m. ET 4/14/21.

Take notice that the Commission received the following electric rate filings:

Docket Numbers: ER21-1578-000.

Applicants: PJM Interconnection, L.L.C.

Description: § 205(d) Rate Filing: Original ISA, Service Agreement No. 5995; Queue No. AD2-160/AE2-253 to be effective 3/3/2021.

Filed Date: 4/1/21.

Accession Number: 20210401-5011.

Comments Due: 5 p.m. ET 4/22/21.

Docket Numbers: ER21-1579-000.

Applicants: Duke Energy Progress, LLC, Duke Energy Florida, LLC, Duke Energy Carolinas, LLC.

Description: § 205(d) Rate Filing: Revisions to Attachment J (LGIP) to Joint OATT to be effective 6/1/2021.

Filed Date: 4/1/21.

Accession Number: 20210401-5029.

Comments Due: 5 p.m. ET 4/22/21.

Docket Numbers: ER21-1580-000.

Applicants: Sky River Wind, LLC.

Description: Baseline eTariff Filing: Sky River Wind, LLC Application for MBR Authority to be effective 6/1/2021.

Filed Date: 4/1/21.

Accession Number: 20210401-5058.

Comments Due: 5 p.m. ET 4/22/21.

Docket Numbers: ER21-1581-000.

Applicants: Midcontinent Independent System Operator, Inc., GridLiance Heartland LLC.

Description: § 205(d) Rate Filing: 2021-04-01_GridLiance Attachment O Filing to be effective 5/31/2021.

Filed Date: 4/1/21.

Accession Number: 20210401-5060.

Comments Due: 5 p.m. ET 4/22/21.

Docket Numbers: ER21-1582-000.

Applicants: Consolidated Edison Company of New York, Inc.

Description: § 205(d) Rate Filing: PASNY Tariff 4-1-2021 CDG Membership Amendment to be effective 4/1/2021.

Filed Date: 4/1/21.

Accession Number: 20210401-5064.

Comments Due: 5 p.m. ET 4/22/21.

Docket Numbers: ER21-1583-000.

Applicants: Public Service Company of New Mexico.

Description: § 205(d) Rate Filing: 2021 Real Power Loss Factor to be effective 6/1/2021.

Filed Date: 4/1/21.

Accession Number: 20210401-5066.

Comments Due: 5 p.m. ET 4/22/21.

Docket Numbers: ER21-1584-000.

Applicants: Dominion Energy South Carolina, Inc.

Description: Notice of Cancellation of Operating Agreement for Interconnected Generation of Dominion Energy South Carolina, Inc.

Filed Date: 3/31/21.

Accession Number: 20210331-5596.

Comments Due: 5 p.m. ET 4/21/21.

Docket Numbers: ER21-1585-000.

Applicants: Public Service Company of Colorado.

Description: § 205(d) Rate Filing: 2021-04-01 OATT Att-W-E&P-FormofSvcAgrmt-SPS to be effective 6/1/2021.

Filed Date: 4/1/21.

Accession Number: 20210401-5128.

Comments Due: 5 p.m. ET 4/22/21.

Take notice that the Commission received the following public utility holding company filings:

Docket Numbers: PH21-9-000.

Applicants: GreanLife Solar LLC, Renewable Energy Alternatives, LLC.

Description: GreanLife Solar LLC submits FERC-65-A Exemption Notification.

Filed Date: 3/31/21.

Accession Number: 20210331-5563.

Comments Due: 5 p.m. ET 4/21/21.

Take notice that the Commission received the following PURPA 210(m)(3) filings:

Docket Numbers: QM21-14-000.

Applicants: Evergy Kansas Central, Inc., Evergy Kansas South, Inc., Evergy Metro, Inc., Evergy Missouri West, Inc., Oklahoma Gas & Electric Company, Southwestern Public Service Company, The Empire District Electric Company, Southwestern Electric Power Company, Public Service Company of Oklahoma

Description: Application of SPP Utilities to Terminate Its Mandatory Purchase Obligation under the Public Utility Regulatory Policies Act of 1978.

Filed Date: 3/31/21.

Accession Number: 20210331-5384.

Comments Due: 5 p.m. ET 4/28/21.

Docket Numbers: QM21-15-000.

Applicants: Appalachian Power Company, Indiana Michigan Power Company, Kentucky Power Company, Kingsport Power Company, Ohio Power Company, Wheeling Power Company.

Description: Application of AEP PJM Utilities to Terminate Its Mandatory Purchase Obligation under the Public Utility Regulatory Policies Act of 1978.

Filed Date: 3/31/21.

Accession Number: 20210331-5400.

Comments Due: 5 p.m. ET 4/28/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 1, 2021.
Nathaniel J. Davis, Sr.,
Deputy Secretary.

[FR Doc. 2021-07156 Filed 4-6-21; 8:45 am]

BILLING CODE 6717-01-P